DEPARTMENT OF HOUSING AND URBAN DEVELOPMENT

[Docket No. FR-4491-N-10]

Notice of Intent To Prepare a Draft Environmental Impact Statement for the Salishan Revitalization Project, City of Tacoma, WA

AGENCY: Office of the Assistant Secretary for Community Planning and Development, HUD.

ACTION: Notice of intent.

SUMMARY: HUD gives notice to the public, agencies, and Indian tribes that the City of Tacoma, WA acting under its authority as the Responsible Entity for compliance with the National Environmental Policy Act (NEPA) in accordance with 24 CFR 58.4, and jointly the City of Tacoma and Tacoma Housing Authority (THA) acting under their authority as lead agencies in accordance with the State Environmental Policy Act (SEPA) (Revised Code of Washington (RCW) 43.21) intends to prepare an Environmental Impact Statement (EIS) for the redevelopment of the Salishan housing project. This notice is given in accordance with the Council on Environmental Quality regulations [40 CFR parts 1500-1508].

Lead Agencies: The EIS will be prepared as a joint NEPA and Washington State SEPA document intended to satisfy the requirements of both federal and state environmental statutes. In accordance with specific statutory authority and HUD's regulations under 24 CFR part 58 (Environmental Review Procedures for Entities Assuming HUD Environmental Responsibilities), HUD has authorized the City of Tacoma to assume authority as the NEPA Responsible Entity. The City of Tacoma is also the SEPA lead agency and has agreed to share lead agency status with THA with the City as nominal lead as allowed under Washington Administrative Code 197-11-944. Federal agencies with jurisdiction by law, special expertise, or other special interest should report their interests and indicate their willingness to participate in the EIS process as a “Cooperating Agency.”

ADDRESSES: Notice of intent to prepare an EIS is hereby given and all interested federal, state, and local agencies, Indian tribes, groups, and the public are invited to comment on the scope of the EIS. Comments relating to the scope of the EIS are requested and will be accepted by the contact person listed below for a period of 30 days following issuance of this notice. Parties interested in receiving future notices to comment on the published Draft EIS should also notify the contact person within the 30-day time period.

FOR FURTHER INFORMATION CONTACT: Karie Hayashi, Land Use Administration Planner, City of Tacoma, 747 Market Street, Tacoma, Washington, 98404; Phone (253) 591-5387, Fax: (253) 591-5433; e-mail: khayashi@cityoftacoma.org.

SUPPLEMENTARY INFORMATION:

A. Background

The Salishan Public Housing Development (Salishan) was originally constructed in 1942 as war time temporary housing on 147.7 acres on the east side of Tacoma. Located in what is known as the East Side neighborhood, Salishan is bordered on the west by Portland Avenue and on the east by Swan Creek. In 2000, THA submitted a successful HOPE VI grant application for the redevelopment of Salishan. The amount of the HOPE VI grant awarded in connection with the Salishan revitalization project was $35 million. Under the proposed Revitalization Plan, all of the units will be demolished and Salishan will be redeveloped into a community of approximately 1,200 units. The project will require temporary and permanent relocation of all existing residents. The new unit mix will incorporate low-income, affordable, and market rate housing with single- and multi-family dwellings, and senior and special needs housing. The redevelopment project will also include a mixture of commercial uses and improvements to community facilities such as expanding the existing health clinic, day care, family investment center, and gymnasium. There are currently 837 housing units, in which approximately 810 families reside.

Alternatives to be considered in the EIS include a no action alternative and a range of development alternatives from 1,100 units to 1,400 units. An additional option that will be considered as part of the two development alternatives will be a potential land swap with Metro Parks. Metro Parks is proposing to develop a portion of their property and the land they get from THA for active and passive recreation uses. THA will develop the land from Metro Parks for housing or other community facilities.

B. Need for the EIS

This proposal may constitute an action with potentially significant impact on the human environment and significant adverse impacts on the environment. Therefore the lead agencies have elected to prepare an EIS pursuant to 24 CFR 58.37 and RCW 43.21.030(2)(c). Respondents may comment on EIS alternatives, probable significant adverse impacts, mitigation measures, and licenses or other approvals that may be required. Responses to this notice will be used to: (1) Determine significant environmental issues, (2) assist in developing the range of alternatives to be considered, and (3) identify interested parties who would like to participate in the EIS process.

C. Scoping

A public scoping meeting is scheduled to occur on March 19, 2003 from 4 p.m. to 8 p.m. (childcare and language translation services will be available at the meeting). The EIS scoping meeting will provide an opportunity for the public to learn more about the project and provide input on the scope of the EIS. The public scoping meeting will be held at the following location: Tacoma Housing Authority, Salishan Meeting Rooms, 1724 E. 44th Street, Tacoma, Washington 98404.

D. EIS Issues

The lead agencies have identified the following areas for potential discussion in the EIS: geology and soils, air quality, water resources, vegetation and wetlands, fish and wildlife, threatened and endangered species, hazardous materials, noise, land use, housing, displacement, and relocation, social and economic (including environmental justice), historic resources, cultural and archaeological resources, recreation, visual resources and aesthetics, transportation, public services, and utilities.

Questions may be directed to the individual named in this notice under the heading FOR FURTHER INFORMATION CONTACT.

Dated: February 28, 2003.
Roy A. Bernardi,
Assistant Secretary for Community Planning and Development.

[FR Doc. 03-5254 Filed 3-4-03; 8:45 am]

BILLING CODE 4210-29-P